DEPARTMENT OF THE TREASURY

Internal Revenue Service

26 CFR Parts 1 and 301

[REG-103735-00 and REG-103736-00]

RIN 1545-AX81

Tax Shelter Disclosure Statement and Requirement to Maintain List of Investors in Potentially Abusive Tax Shelters; Hearing

AGENCY: Internal Revenue Service (IRS), Treasury.

ACTION: Reschedule of public hearing on proposed rulemaking.

SUMMARY: This document contains a notice of public hearing on proposed regulations relating to the modification of tax shelters under sections 6011, 6111, and 6112.

DATES: The public hearing is being held on Tuesday, January 7, 2002, at 10 a.m.

ADDRESSES: The public hearing is being held in room 4718, Internal Revenue Service Building, 1111 Constitution Avenue, NW., Washington, DC. Due to building security procedures, visitors must enter at the 1111 Constitution Avenue location. In addition, all visitors must present photo identification to enter the building.

Mail outlines to: Regulations Unit CC:ITA:RU (REG-103735-00 and REG-103736-00), room 5226, Internal Revenue Service, POB 7604, Ben Franklin Station, Washington, DC 20044. Hand deliver outlines Monday through Friday between the hours of 8 a.m. and 4 p.m. to: Regulations Unit CC:ITA:RU (REG-103735-00 and REG-103736-00), Courier's Desk, Internal Revenue Service, 1111 Constitution Avenue, NW., Washington, DC. Submit electronic outlines of oral comments directly to the IRS Internet site at http://www.irs.gov/regs.

FOR FURTHER INFORMATION CONTACT: Concerning submissions of comments, the hearing, and/or to be placed on the building access list to attend the hearing contact Sonya Cruse, Paralegal, (202) 622-7180 (not a toll-free number).

SUPPLEMENTARY INFORMATION: The subject of the public hearing is the notice of proposed regulations (REG-103735-00 and REG-103736-00). The public hearing was originally scheduled on December 11, 2002, and notice of the public hearing was published in the Federal Register on Tuesday, October 22, 2002 (67 FR 64842). Due to inclement weather, some hearing participants were unable to attend. For this reason, the IRS is rescheduling the public hearing.

The rules of 26 CFR 601.601(a)(3) apply to the hearing.

Persons who have submitted written comments and wish to present oral comments at the hearing, must submit an outline of the topics to be discussed and the amount of time to be devoted to each topic (signed original and eight copies) by Friday, January 3, 2002.

A period of 10 minutes is allocated to each person for presenting oral comments.

After the deadline for receiving outlines has passed, the IRS will prepare an agenda containing the schedule of speakers. Copies of the agenda will be made available, free of charge, at the hearing.

Because of access restrictions, the IRS will not admit visitors beyond the immediate entrance area no more than 30 minutes before the hearing starts. For information about having your name placed on the building access list to attend the hearing, see the FOR FURTHER INFORMATION CONTACT section of this document.

Cynthia E. Grigsby,
Chief, Regulations Unit, Associated Chief Counsel, (Income Tax and Accounting).

[FR Doc. 02-32893 Filed 12-26-02; 8:45 am]

BILLING CODE 4830-01-P